FEDERAL COMMUNICATIONS COMMISSION

Information Collection(s) Being Reviewed by the Federal Communications Commission

AGENCY: Federal Communications Commission.

ACTION: Notice and request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before September 28, 2012. If you anticipate that you will be submitting PRA comments, but find it difficult to do so within the period of time allowed by this notice, you should advise the FCC contact listed below as soon as possible.

ADDRESSES: Submit your PRA comments to Judith B. Herman, Federal Communications Commission, via the Internet at Judith-b.herman@fcc.gov. To submit your PRA comments by email send them to: PRA@fcc.gov.

FOR FURTHER INFORMATION CONTACT: Judith B. Herman, Office of Managing Director, (202) 418-0214.

SUPPLEMENTARY INFORMATION: OMB Control Number: 3060-0999.

Title: Hearing Aid Compatibility Status Report and Section 20.19, Hearing Aid-Compatible Mobile Handsets (Hearing Aid Compatibility Act).

Form Number: FCC Form 655.

Type of Review: Revision of a currently approved collection.

Respondents: Business or other for-profit entities.

Number of Respondents: 925 respondents; 925 responses.

Estimated Time per Response: 13.041081 hours per response (average).

Frequency of Response: On occasion and annual reporting requirements and third party disclosure requirement.

Obligation to Respond: Required to obtain or retain benefits. Statutory authority for this information collection is contained in 47 U.S.C. Sections 151, 154(i), 157, 160, 201, 202, 214, 301, 303, 308, 309(j), 310 and 610 of the Communications Act of 1934, as amended.

Total Annual Burden: 12,063 hours.

Total Annual Cost: N/A.

Privacy Impact Assessment: N/A.

Nature and Extent of Confidentiality: Information requested in the reports may include confidential information. However, covered entities are allowed to request that such materials submitted to the Commission be withheld from public inspection.

Needs and Uses: The Commission will submit this information collection to the Office of Management and Budget (OMB) as a revision after this comment period to obtain the three year clearance from them.

The Commission is modifying the FCC Form 655 to collect information that is relevant to the newly effective provision of the rule and to clarify and streamline existing fields. Specifically, manufacturers and service providers will be asked to provide new or different responses on the FCC Form 655 in the following areas:

(1) The FCC Form 655 currently collects information on which version of the ANSI standard was used to test the handsets offered during a reporting period. The 2011 ANSI standard will be added as an option on the Handset Model Information portion of FCC Form 655. In addition, the order of the questions has been changed so that manufacturers will only have to specify once what version of the ANSI standard was used for each handset.

(2) The de minimis exception section will be expanded by adding questions necessary to determine whether a filer is eligible under the new version of the exception that becomes effective on September 8, 2012. These questions will address whether a filer is a small entity and how long it has been offering handsets. In addition, the text of the existing question will be modified to make clear that manufacturers must report all handsets that they offer in the United States.

(3) The Air Interfaces and Frequency Bands fields on the Handset Model Information portion of FCC Form 655 will be expanded to add “LTE”, “Wi-FI”, “WiMax”, “2.4 GHz”, and “2.5 GHz”. In addition, the question whether the handset operates over additional air interfaces and frequency bands will be eliminated as no longer necessary.

(4) A new question will be added to the Handset Model Information portion of FCC Form 655 asking whether the handset meets the criteria for a M3 rating for operations over GSM at 1900 MHz by enabling the user optionally to reduce the maximum power at which the handset will operate by no more than 2.5 decibels, except for emergency calls to 911. This information will help the Commission ensure that such handsets are counted correctly, as well as to monitor compliance with related disclosure requirements.

(5) In order to determine whether a filer is fully in compliance with the disclosure requirements, the Product Labeling portion of FCC Form 655 will be expanded. New questions will be added to determine whether appropriate disclosure/labeling was met for any handsets that let the consumer reduce maximum transmit power for GSM operations in the 1900 MHz band by up to 2.5 decibels, any handsets that a manufacturer may have tested under the 2011 version of the ANSI standard and found not to meet hearing aid compatibility criteria for those operations, and any handsets that were certified for inductive coupling under the 2011 ANSI standard without testing VoLTE transmissions.

Federal Communications Commission.
Bulah P. Wheeler,
Deputy Manager,Office of the Secretary,Office of Managing Director.

[FR Doc. 2012-18422 Filed 7-27-12; 8:45 am]

BILLING CODE 6712-01-P